FEDERAL RETIREMENT THRIFT INVESTMENT BOARD

Sunshine Act Meetings

TIME AND DATE: 10:00 a.m. (Eastern Time) September 29, 2014 (Telephonic).

PLACE: 10th Floor Board Meeting Room, 77 K Street NE., Washington, DC 20002.

STATUS: Open to the public.

MATTERS TO BE CONSIDERED:

Open to the Public

1. Approval of the Minutes of the August 21, 2014 Board Member Meeting

2. Monthly Reports

a. Monthly Participant Activity Report

b. Monthly Investment Report

c. Legislative Report

3. Office of Investments (OI) Report

4. 2015 Calendar Review

CONTACT PERSON FOR MORE INFORMATION: Kimberly Weaver, Director, Office of External Affairs, (202) 942-1640.

Dated: September 18, 2014.
James Petrick,
Secretary, Federal Retirement Thrift Investment Board.

[FR Doc. 2014-22615 Filed 9-18-14; 4:15 pm]

BILLING CODE 6760-01-P